DEPARTMENT OF COMMERCE

International Trade Administration

[A-533-877, A-570-064]

Stainless Steel Flanges From India and the People's Republic of China: Final Results of the Expedited First Sunset Reviews of the Antidumping Duty Orders

AGENCY: Enforcement and Compliance, International Trade Administration, Department of Commerce.

SUMMARY: As a result of these expedited sunset reviews, the U.S. Department of Commerce (Commerce) finds that revocation of the antidumping duty (AD) orders on stainless steel flanges from India and the People's Republic of China (China) would be likely to lead to the continuation or recurrence of dumping at the levels indicated in the “Final Results of Sunset Reviews” section of this notice.

DATES: Applicable September 5, 2023.

FOR FURTHER INFORMATION CONTACT: Christopher Maciuba, AD/CVD Operations, Office V, Enforcement and Compliance, International Trade Administration, U.S. Department of Commerce, 1401 Constitution Avenue NW, Washington, DC 20230; telephone: (202) 482-0413.

SUPPLEMENTARY INFORMATION:

Background

On August 1, 2018, and on October 9, 2018, Commerce published in the Federal Register the AD orders on stainless steel flanges from China and India, respectively.¹ On May 1, 2023, Commerce published the notice of initiation of the first sunset reviews of the Orders, pursuant to section 751(c) of the Tariff Act of 1930, as amended (the Act).²

¹ See Stainless Steel Flanges from the People's Republic of China: Antidumping Duty Order, 83 FR 37468 (August 1, 2018); and Stainless Steel Flanges from India: Antidumping Duty Order, 83 FR 50639 (October 9, 2018) (collectively, Orders).

² See Initiation of Five-Year (Sunset) Reviews, 88 FR 26522 (May 1, 2023).

On May 15 and 16, 2023, Commerce received notices of intent to participate in these reviews from Core Pipe Products, Inc. (Core Pipe) and Kerkau Manufacturing (Kerkau) within the deadline specified in 19 CFR 351.218(d)(1)(i).³ Core Pipe and Kerkau claimed interested party status under section 771(9)(C) of the Act as producers of the domestic like product in the United States. On May 31, 2023, Commerce received adequate substantive responses from Core Pipe and Kerkau.⁴ We received no substantive responses from respondent interested parties.

³ See Core Pipe's Letters, “Stainless Steel Flanges from India—Notice of Intent To Participate,” dated May 15, 2023; and “Stainless Steel Flanges from the People's Republic of China—Notice of Intent To Participate,” dated May 15, 2023; and Kerkau's Letters, “Stainless Steel Flanges from India: Notice of Intent to Participate by Kerkau Manufacturing,” dated May 16, 2023; and “Stainless Steel Flanges from China: Notice of Intent to Participate by Kerkau Manufacturing,” dated May 16, 2023.

⁴ See Core Pipe's Letters, “Stainless Steel Flanges from India—Domestic Interested Party's Substantive Response to Notice of Initiation,” dated May 31, 2023 (Core Pipe Substantive Response—India); and “Stainless Steel Flanges from the People's Republic of China—Domestic Interested Party's Substantive Response to Notice of Initiation,” dated May 31, 2023 (Core Pipe Substantive Response—China); and Kerkau's Letters, “Stainless Steel Flanges from India: Substantive Response of Kerkau Manufacturing,” dated May 31, 2023; and “Stainless Steel Flanges from China: Substantive Response of Kerkau Manufacturing,” dated May 31, 2023.

On June 20, 2023, Commerce notified the U.S. International Trade Commission that it did not receive substantive responses from any respondent interested parties.⁵ As a result, pursuant to section 751(c)(3)(B) of the Act and 19 CFR 351.218(e)(1)(ii)(C)(2), Commerce conducted expedited (120-day) sunset reviews of the Orders.

⁵ See Commerce's Letter, “Sunset Reviews Initiated on May 1, 2023,” dated June 20, 2023.

Scope of the Orders

The products covered by these Orders are stainless steel flanges from India and China. For a full description of the scope, see the Issues and Decision Memorandum.⁶

⁶ See Memorandum, “Issues and Decision Memorandum for the Final Results of the Expedited First Sunset Reviews of the Antidumping Duty Orders on Stainless Steel Flanges from India and the People's Republic of China,” dated concurrently with, and hereby adopted by, this notice (Issues and Decision Memorandum).

Analysis of Comments Received

A complete discussion of all issues raised in these sunset reviews is contained in the accompanying Issues and Decision Memorandum.⁷ A list of topics discussed in the Issues and Decision Memorandum is included as an appendix to this notice. The Issues and Decision Memorandum is a public document and is on file electronically via Enforcement and Compliance's Antidumping and Countervailing Duty Centralized Electronic Service System (ACCESS). ACCESS is available to registered users at http://access.trade.gov. In addition, a complete version of the Issues and Decision Memorandum can be directly accessed at https://access.trade.gov/public/FRNoticesListLayout.aspx.

⁷ See generally Issues and Decision Memorandum.

Final Results of Sunset Reviews

Pursuant to sections 751(c)(1) and 752(c)(1) and (3) of the Act, Commerce determines that revocation of the Orders would likely lead to the continuation or recurrence of dumping and that the magnitude of the dumping margins likely to prevail would be weighed-average margins up to 145.25 percent for India, and up to 257.11 percent for China.⁸

⁸ Id. at 9.

Administrative Protective Orders

This notice serves as the only reminder to interested parties subject to an Administrative Protective Order (APO) of their responsibility concerning the return/destruction or conversion to judicial protective order of proprietary information disclosed under APO in accordance with 19 CFR 351.305. Timely notification of the return or destruction of APO materials or conversion to judicial protective order is hereby requested. Failure to comply with the regulations and terms of an APO is a violation which is subject to sanction.

Notification to Interested Parties

We are issuing and publishing these final results in accordance with sections 751(c), 752(c), and 777(i)(1) of the Act and 19 CFR 351.218.

Dated: August 28, 2023.
Lisa W. Wang,
Assistant Secretary for Enforcement and Compliance.

Appendix

List of Topics Discussed in the Issues Decision Memorandum

I. Summary

II. Background

III. Scope of the Orders

IV. History of the Orders

V. Legal Framework

VI. Discussion of the Issues

1. Likelihood of Continuation or Recurrence of Dumping

2. Magnitude of the Margins of Dumping Likely to Prevail

VII. Final Results of Sunset Reviews

VIII. Recommendation

[FR Doc. 2023-19023 Filed 9-1-23; 8:45 am]

BILLING CODE 3510-DS-P